DEPARTMENT OF LABOR

Employment and Training Administration

[NAFTA-3454]

Tektronix, Incorporated, Video and Networking Division, Beaverton, OR; Notice of Negative Determination Regarding Application for Reconsideration

By application dated December 9, 1999, one of the petitioners requested administrative reconsideration of the Department's negative determination regarding worker eligibility to apply for NAFTA-TAA. The denial notice applicable to workers of the subject firm located in Beaverton, Oregon, was signed on November 16, 1999 and published in the Federal Register on December 2, 1999 (64 FR 67595).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

Findings of the initial investigation showed that workers of Tektronix, Incorporated, Video and Networking Division, Beaverton, Oregon, produced profile products which are used for the production of videos and computer products. The Department's denial of NAFTA-TAA for workers of the subject firm was based on the finding that criterion (3) and (4) of the worker group eligibility requirements of paragraph (a)(1) of section 250 of the Trade Act of 1974, as amended, were not met. There were no company imports or increased customer imports from Mexico or Canada of profile products. Tektronix, Incorporated, did not shift production of articles produced in the Video and Networking Division to Mexico or Canada. Layoffs were attributable to a domestic shift in production.

The petitioner claims that the Lightworks product line was sold to a company in Montreal, Canada, which contributed to worker separations at the Beaverton plant of the subject firm.

In order to respond to the petitioner, the Department contacted the subject firm to learn whether Lightworks was produced in the Video and Networking Division of the subject firm, and whether there was a shift in the production from Beaverton to Canada of Lightworks.

Information provided by the company affirms that Lightworks, a non-linear video editing product, was produced by workers in the Video and Networking Division of the subject firm. Further, the company official confirmed the sale of Lightworks to a Canadian firm within the time period relevant to the investigation. The sale of a product line by the subject firm to a company in Canada, however, is not a basis for worker group certification under NAFTA-TAA. In this case, only increased imports from Canada of articles like or directly competitive with those produced at the workers' firm, or a shift in production from the workers' firm to Canada would constitute a basis for NAFTA-TAA certification for the petitioners.

Conclusion

After review of the application and investigative findings, I conclude that there has been no error or misinterpretation of the law or of the facts which would justify reconsideration of the Department of Labor's prior decision. Accordingly, the application is denied.

Signed at Washington, DC this 14th day of April 2000.
Grant D. Beale,
Program Manager, Division of Trade Adjustment Assistance.

[FR Doc. 00-10581 Filed 4-27-00; 8:45 am]

BILLING CODE 4510-30-M